DEPARTMENT OF STATE

[Public Notice: 4801]

60-Day Notice of Proposed Information Collection: DS-1504, Request for Customs Clearance of Merchandise, OMB Control Number 1405-0104

ACTION: Notice of request for public comments.

SUMMARY: The Department of State is seeking Office of Management and Budget (OMB) approval for the information collection described below. The purpose of this notice is to allow 60 days for public comment in the Federal Register preceding submission to OMB. We are conducting this process in accordance with the Paperwork Reduction Act of 1995.

• Title of Information Collection: Request for Customs Clearance of Merchandise.

• OMB Control Number: 1405-0104.

• Type of Request: Extension of a currently approved collection.

• Originating Office: Bureau of Diplomatic Security, Office of Foreign Missions, Diplomatic Tax and Customs Program, DS/OFM/VTC/TC.

• Form Number: DS-1504.

• Respondents: Eligible foreign diplomatic or consular missions, certain foreign government organizations, and designated international organizations.

• Estimated Number of Respondents: Approximately 350.

• Estimated Number of Responses: Approximately 13,200.

• Average Hours Per Response: Fifteen minutes.

• Total Estimated Burden: 3,300 hours.

• Frequency: On occasion.

• Obligation to Respond: Required to obtain or retain a benefit.

DATES: The Department will accept comments from the public up to October 15, 2004.

You may submit comments by any of the following methods:

• E-mail: ofminfo@state.gov. You must include the DS form number, information collection title, and OMB control number in the subject line of your message.

• Mail (paper, disk, or CD-ROM submissions): Office of Foreign Missions, U.S. Department of State, 2201 C Street, NW., Washington, DC 20520.

FOR FURTHER INFORMATION CONTACT: Direct requests for additional information regarding the collection listed in this notice, including requests for copies of the proposed information collection and supporting documents, to Mr. Robert Kelley, DS/OFM/VTC/TC, 3507 International Place, NW., U.S. Department of State, Washington, DC 20008, who may be reached on (202) 895-3683, or by E-mail at kelleyjr@state.gov.

SUPPLEMENTARY INFORMATION: We are soliciting public comments to permit the Department to:

• Evaluate whether the proposed information collection is necessary for the proper performance of our functions.

• Evaluate the accuracy of our estimate of the burden of the proposed collection, including the validity of the methodology and assumptions used.

• Enhance the quality, utility, and clarity of the information to be collected.

• Minimize the reporting burden on those who are to respond, including the use of automated collection techniques or other forms of technology.

Abstract of proposed collection: Exemption from customs duties is a privilege enjoyed by foreign diplomatic and consular personnel on assignment in the United States under the provisions of the Vienna Conventions on Diplomatic and Consular Relations and the terms of various bilateral agreements. Under the Foreign Missions Act of 1982 (as amended), 22 U.S.C. 4301 et seq., the Department of State's Office of Foreign Missions (“OFM”) is given the authority to grant privileges and benefits, based on reciprocity. The application form DS-1504, “Request for Customs Clearance of Merchandise” provides OFM with the necessary information to provide and administer the benefit effectively and efficiently.

Methodology: The collected information is used by the Office of Foreign Missions (OFM) in determining the eligibility of foreign diplomatic and consular missions and personnel for exemption from duties otherwise imposed by U.S. Customs and Border Protection (“CBP”) on imported goods. In some cases, the reciprocal relationship between the United States and other nations requires that some type of duty or restriction on importation be imposed. The information on this form provides the basis upon which to determine, in cooperation with CBP, the proper handling of diplomatic shipments.

Dated: August 2, 2004.
Lynwood M. Dent, Jr.,
Deputy Assistant Secretary and Deputy Director, Office of Foreign Missions, Bureau of Diplomatic Security, Department of State.

[FR Doc. 04-18663 Filed 8-13-04; 8:45 am]

BILLING CODE 4710-43-P